DEPARTMENT OF AGRICULTURE

Forest Service

Steamboat Mountain Mining Operations, Rogue River National Forest, Jackson County, OR

AGENCY: Forest Service, USDA.

ACTION: Notice of intent to prepare an environmental impact statement.

SUMMARY: The USDA, Forest Service will prepare an environmental impact statement (EIS) in response to Vest-O-Land Enterprises, Inc.'s proposed Plan of Operations, for the purpose of establishing operational terms and conditions as deemed reasonable, and to in due course, promote the development of locatable mineral resources of the United States, as mandated by the Mining Law of 1872.

DATES: Comments concerning the scope of this analysis should be received by October 15, 2002.

ADDRESSES: Send written comments to Erin Connelly, District Ranger, Applegate Ranger District, Rogue River National Forest, 6941 Upper Applegate Road, Jacksonville, Oregon, 97530-9314, FAX (541) 899-3888.

FOR FURTHER INFORMATION CONTACT: Bengt Hamner, Assistant Lands Staff, Rogue River National Forest, (541) 858-2304, or Carol Spinos, Planner, Applegate Ranger District, (541) 899-3843.

SUPPLEMENTARY INFORMATION: Under the terms of the 1872 Mining Law, a mineral claimant, a k a Vest-O-Land Enterprises, Inc., proposes to exercise his exclusive, mineral extraction rights by conducting surface or “open pit” gold, platinum and rodium withdrawal, from overlapping Mining Claims #146192 and #146193 (DVT #3 and DVT #4). The location of the Steamboat Mountain Mining Operations in NE¼ of Section 20, Township 40 South, Range 4 West, Willamette Meridian, Jackson County, Oregon. The proposed 8-acre operations site is located approximately .75 air miles south of Steamboat Mountain peak, between 3,000-3,200 feet above sea level on National Forest System Lands. The claimant plans to facilitate mineral production over the next fifteen years by excavating an open pit area approximately 70-200 feet depth x 840 feet width. The Steamboat Mountain Mining Operations would provide for stages (year-by-year) excavation, resulting in the removal of over 4,400 cubic yards of bedrock annually. Initial clearing would include the incidental cutting of approximately 25-50 commercially valuable trees. Rock would be blasted, crushed, loaded on trucks with an excavator, and hauled off National Forest System Lands (estimate 5 semi-truck loads/day), along Forest Service Road 300 to County Road 777, for gold recovery processing off of national forest.

Proposed Action

Under the provisions of the National Environmental Policy Act (NEPA), the Rogue River National Forest, Applegate Ranger District, proposes to fulfill all legally mandated environmental analysis and statement requirements, including the establishment of operating terms and conditions. The application of operational terms and conditions are intended to direct mining operation mitigation and reclamation activities to minimize adverse effects on National Forest System surface resources (36 CFR 228.1).

Preliminary Alternatives

The following preliminary alternatives will be analyzed in the forthcoming draft EIS; No-Action (as required by NEPA), a baseline alternative that assumes mining without any terms and conditions, an alternative that assumes mining with associated terms and conditions as proposed by the claimant, and an alternative that incorporates proposed claimant terms and conditions, as well as additional premium terms and conditions for resource protection.

Responsible Official/Nature of Decision To Be Made

the Responsible Official, Erin Connelly, Applegate District Ranger, will review the analysis contained in the Steamboat Mountain Mining Operations Environmental Impact Statement (EIS), to decide whether or not terms and conditions shall be required, and if so, specially where, when, and to what extent they shall be employed. The ensuring Record of Decision tied to the final EIS would not directly result in the approval of the claimants' Plan of Operations (POO). Rather, the Record of Decision would fulfill legal requirements and provide rationale for establishing reasonable terms and conditions.

Comment Requested

This notice of intent initiates the scoping process under NEPA, which will guide the development of the draft EIS. The draft EIS is expected to be filed with the Environmental Protection Agency (EPA) and to be available for public comment by November 2002. The comment period for the draft EIS will be 45 days from the date EPA publishes the Notice of Availability in the Federal Register.

At the end of this period, comments submitted to the Forest Service, including names and addresses of those who responded, will be considered part of the public record for this proposal, and as such will be available for public review. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 533 (1978). Also, environmental objections that could be raised at the draft EIS state, but that are not raised until completion of the final EIS, may be waived or dismissed by the courts. City Angoon v. Hodel, 803 F.2d 1016, 1022 (9th Cir, 1986) and Wisconsin Heritages, Inc. v. Harris, 490 F. Supp. 1334, 1338 (E.D. Wis. 1980). Because of these court rulings, it is important that those interested in this proposed action participate by the close of the 45-day comment period so substantive comments and objections are made available to the Forest Service at a time when it can meaningfully consider them and respond to them in the final environmental impact statement.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Comments on the draft EIS will be analyzed, considered, and responded to by the Forest Service in preparing the final EIS. The final EIS is scheduled to be completed in January 2003. The responsible official will consider comments, responses, environmental consequences discussed in the final EIS and applicable laws, regulations, and policies in making this decision. The responsible official will document the decision and rationale for the decision in the Record of Decision. It will be subject to Forest Service Appeal Regulations (36 CFR Part 215).

Dated: November 9, 2002.
Erin Connelly,
District Ranger.

[FR Doc. 02-23343 Filed 9-12-02; 8:45 am]

BILLING CODE 3410-11-M